DEPARTMENT OF TRANSPORTATION

Surface Transportation Board

[Ex Parte No. 333]

Meetings of the Board, Sunshine Act

Time and Date: 10 a.m., Tuesday, June 22, 2004.

Place: The Board's Hearing Room, Surface Transportation Board, 1925 K Street, NW., Washington, DC 20423.

Status: The Board will meet to elect a Vice Chairman and to discuss among themselves the following agenda items. Although the conference is open for public observation, no public participation is permitted.

Matters to be Discussed:

STB Finance Docket No. 34495, Buckingham Branch Railroad Company—Lease-CSX Transportation, Inc.

STB Ex Parte No. 558 (Sub-No. 7), Railroad Cost of Capital-2003.

STB Finance Docket No. 34054, Morristown & Erie Railway, Inc.—Modified Rail Certificate.

STB Docket No. AB-308 (Sub-No. 3X), Central Michigan Railway Company—Abandonment Exemption—in Saginaw County, MN.

STB Docket No. AB-33 (Sub-No. 132X), Union Pacific Railroad Company—Abandonment Exemption—in Rio Grande and Mineral Counties, CO.

STB Docket No. AB-863X, City of Venice—Abandonment Exemption—in Venice, IL and St. Louis, MO.

Contact Person for More Information: A. Dennis Watson, Office of Congressional and Public Services; Telephone: (202) 565-1596, FIRS: 1-800-877-8339.

Dated: June 15, 2004.
Vernon A. Williams,
Secretary.

[FR Doc. 04-14005 Filed 6-16-04; 3:03 pm]

BILLING CODE 4915-01-P